DEPARTMENT OF DEFENSE

GENERAL SERVICES ADMINISTRATION

NATIONAL AERONAUTICS AND SPACE ADMINISTRATION

[OMB Control No. 9000-0163]; [Docket 2015-0053; Sequence 5]

Submission to OMB for Review; Federal Acquisition Regulation; Small Business Size Representation

AGENCY: Department of Defense (DOD), General Services Administration (GSA), and National Aeronautics and Space Administration (NASA).

ACTION: Notice of request for an extension to an existing OMB clearance.

SUMMARY: Under the provisions of the Paperwork Reduction Act, the Regulatory Secretariat will be submitting to the Office of Management and Budget (OMB) a request for approval of a previously approved information collection requirement regarding small business size representation. A notice was published in the Federal Register at 80 FR 8651 on February 18, 2015. No comments were received.

DATES: Submit comments on or before: June 3, 2015.

ADDRESSES: Submit comments identified by Information Collection 9000-0163, Small Business Size Representation, by any of the following methods:

• Regulations.gov: http://www.regulations.gov. Submit comments via the Federal eRulemaking portal by searching the OMB Control number 9000-0163. Select the link “Comment Now” that corresponds with “Information Collection 9000-0163, Small Business Size Representation”. Follow the instructions provided on the screen. Please include your name, company name (if any), and “Information Collection 9000-0163, Small Business Size Representation” on your attached document.

• Mail: General Services Administration, Regulatory Secretariat Division (MVCB), 1800 F Street NW., Washington, DC 20405. ATTN: Ms. Hada Flowers/IC 9000-0163, Small Business Size Representation.

Instructions: Please submit comments only and cite “Information Collection 9000-0163, Small Business Size Representation,” in all correspondence related to this collection. All comments received will be posted without change to http://www.regulations.gov, including any personal and/or business confidential information provided.

FOR FURTHER INFORMATION CONTACT: Ms. Mahruba Uddowla, Procurement Analyst, Office of Government-wide Policy, contact via telephone 703-605-2868 or email mahruba.uddowla@gsa.gov.

SUPPLEMENTARY INFORMATION:

A. Purpose

Federal Acquisition Regulation (FAR) 19.301 and the FAR clause at 52.219-28, Post-Award Small Business Program Rerepresentation, implement the Small Business Administration's (SBA's) regulation at 13 CFR 121.404(g), requiring that a concern that initially represented itself as small at the time of its initial offer must recertify its status as a small business under the following circumstances:

• Within thirty days of an approved contract novation;

• Within thirty days in the case of a merger or acquisition, where contract novation is not required; or

• Within 120 days prior to the end of the fifth year of a contract, and no more than 120 days prior to the exercise of any option thereafter.

The implementation of SBA's regulation in FAR 19.301 and the FAR clause at 52.219-28 require that contractors rerepresent size status by updating their representations at the prime contract level in the Representations and Certifications section of the System for Award Management (SAM) and notifying the contracting officer that it has made the required update.

The purpose of implementing small business rerepresentations in the FAR is to ensure that small business size status is accurately represented and reported over the life of long-term contracts. The FAR also provides for provisions designed to ensure more accurate reporting of size status for contracts that are novated, merged or acquired by another business. This information is used by the SBA, Congress, Federal agencies and the general public for various reasons such as determining if agencies are meeting statutory goals, set-aside determinations, and market research.

B. Annual Reporting Burden

Based on information from Federal Procurement Data System (FPDS) regarding rerepresentation modifications, a downward adjustment is being made to the number of respondents. As a result, a downward adjustment is being made to the estimated annual reporting burden since the notice regarding an extension to this clearance published in the Federal Register at 77 FR 30265, on May 22, 2012.

Respondents: 1,700.

Responses Per Respondent: 1.

Total Number of Responses: 1,700.

Hours Per Response: 0.5.

Total Burden Hours: 850.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat (MVCB), 1800 F Street NW., Washington, DC 20405, telephone 202-501-4755. Please cite OMB Control No. 9000-0163, Small Business Size Representation, in all correspondence.

Dated: April 28, 2015.
Edward Loeb,
Acting Director, Office of Government-wide Acquisition Policy, Office of Acquisition Policy, Office of Government-wide Policy.

[FR Doc. 2015-10361 Filed 5-1-15; 8:45 am]

BILLING CODE 6820-EP-P